DEPARTMENT OF ENERGY

Federal Energy Regulatory Commission

Public Service Company of Oklahoma, (Docket No. EL06-95-000); Lawton Cogeneration, L.L.C., (Docket No. QF02-16-004); Notice of Filing

August 4, 2006.

Take notice on August 1, 2006, pursuant to Rule 215(a)(3)(i), Public Service Company of Oklahoma (PSO) filed an amended motion for revocation of the qualifying facility (QF) status of the cogeneration facility proposed by Lawton Cogeneration, L.L.C. (Lawton) which was obtained by self recertification and a petition for declaratory order asking the Commission to find: Any further amendments to the QF would render the Lawton Facility a new cogeneration facility pursuant to CFR 292.205(d); if the Lawton Facility does not meet the standards pursuant to § 292.205(a) when it commences operations, PSO will not have to purchase power from the Lawton Facility and cannot be compelled to enter into a contract that requires otherwise; if the Oklahoma Corporation Commission (OCC) compels PSO to pay Lawton an avoided energy cost based on heat rate of a peaking plant it would be in contravention of the Public Utility Regulatory Policies Act of 1978; and that the OCC has no authority to compel PSO to name Lawton as a designated Network Resource of PSO, as such as is preempted by the Federal Power Act, an in any event Order 888 does not compel utilities to purchase transmission service for any third party.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 31, 2006.

Magalie R. Salas,
Secretary.

[FR Doc. E6-13143 Filed 8-10-06; 8:45 am]

BILLING CODE 6717-01-P